DEPARTMENT OF ENERGY

Federal Energy Regulatory Commission

[Docket Nos. RP00-485-002]

Steuben Gas Storage Company; Notice of Compliance Filing

October 4, 2001.

Take notice that on October 1, 2001, Steuben Gas Storage Company (Steuben), 9 Greenway Plaza, Houston, Texas 77046, tendered for filing the following tariff sheets for inclusion in Steuben's FERC Gas Tariff, Original Volume No. 1:

Fifth Revised Sheet No. 1

Original Sheet No. 156E

Steuben requests that this original and this revised tariff sheet be made effective September 14, 2001 in accordance with the Commission's September 14, 2001 order accepting Steuben's tariff sheets in compliance with Order No. 637. This filing implements a mechanism to credit the value of retained gas back to Steuben's customers under Rate Schedules FS and IS.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25517 Filed 10-10-01; 8:45 am]

BILLING CODE 6717-01-P